DEPARTMENT OF THE INTERIOR

Bureau of Land Management

[NV-910-00-0777-30]

Northeastern Great Basin Resource Advisory Council Meeting Location and Time

AGENCY: Bureau of Land Management, Interior.

ACTION: Resource Advisory Council's meeting location and time.

SUMMARY: In accordance with the Federal Land Policy and Management Act and the Federal Advisory Committee Act of 1972 (FACA), 5 U.S.C., the Department of the Interior, Bureau of Land Management (BLM), Council meetings will be held as indicated below. The agenda for the May 5, 2000 meeting includes: approval of minutes of the previous meeting, mining, wild horses, sage grouse, Great Basin Restoration Initiative, Land Health Standards, Off-Highway Vehicle Strategy Plan, Field Manager reports, identification of additional issues to be resolved and determination of the subject matter for future meetings.

All meetings are open to the public. The public may present written comments to the Council. Each formal Council meeting will also have time allocated for hearing public comments. The public comment period for the Council meeting is listed below.

Depending on the number of persons wishing to comment and time available, the time for individual oral comments may be limited. Individuals who plan to attend and need special assistance, such as sign language interpretation, tour transportation or other reasonable accommodations, should contact the BLM as provided below.

DATES, TIMES, PLACE: The time and location of the meeting is as follows: Northeastern Great Basin Resource Advisory Council, Ely Field Office, 702 North Industrial Way, Nevada, 89301; May 5 starting at 9 a.m.; public comments will be at 11 a.m. and 3 p.m.; tentative adjournment at 5 p.m.

FOR FURTHER INFORMATION CONTACT: Curtis G. Tucker, Special Projects Coordinator, Ely Field Office, 702 North Industrial Way, HC 33 Box 33500, Ely, NV 89301-9408, telephone 775-289-1841.

SUPPLEMENTARY INFORMATION: The purpose of the Council is to advise the Secretary of the Interior, through the BLM, on a variety of planning and management issues, associated with the management of the public lands.

Helen Hankins,
Field Office Manager, Elko Field Office.

[FR Doc. 00-9278 Filed 4-13-00; 8:45 am]

BILLING CODE 4310-HC-M